DEPARTMENT OF ENERGY

Federal Energy Regulatory Commission

[Project No. 13272-003]

Alaska Village Electric Cooperative, Inc.; Notice of Application Tendered for Filing With the Commission and Establishing Procedural Schedule for Licensing and Deadline for Submission of Final Amendments

Take notice that the following hydroelectric application has been filed with the Commission and is available for public inspection.

a. Type of Application: Minor Original License.

b. Project No.: 13272-003.

c. Date Filed: November 1, 2013.

d. Applicant: Alaska Village Electric Cooperation, Inc. (AVEC).

e. Name of Project: Old Harbor Hydroelectric Project.

f. Location: The project would be constructed on the East Fork of Mountain Creek, near the town of Old Harbor, Kodiak Island Borough, Alaska. Some project facilities would be located on approximately 1.85 acres of federal lands of the Kodiak National Wildlife Refuge.

g. Filed Pursuant to: Federal Power Act, 16 U.S.C. 791(a)-825(r).

h. Applicant Contact: Meera Kohler, President and CEO, AVEC, 4831 Eagle Street, Anchorage, AK 99503; Telephone (907) 561-1818.

i. FERC Contact: Mary Greene, (202) 502-8675 or mary.greene@ferc.gov.

j. This application is not ready for environmental analysis at this time.

k. The Project Description: The proposed run-of-river project will consist of an intake, penstock, powerhouse, tailrace and constructed channel, access road and trail, and transmission line. Power from this project will be used by the residents of the city of Old Harbor.

Intake

The intake will consist of a diversion/cut off weir with a height of approximately 3-8 feet and a length of approximately 100 feet. A below grade transition with an above-ground air relief inlet pipe will convey water to a buried high-density polyethylene pipe and steel pipe penstock.

Penstock

A 10,100-foot-long penstock consisting of an 18-inch-diameter polyethylene pipe, a 20-inch-diameter polyethylene pipe, and a 16-inch-diameter steel pipe will be installed. A total of 7,400 feet of polyethylene will be installed from the intake and 2,750 feet of steel pipe will be installed near the powerhouse.

Powerhouse

The powerhouse will consist of an approximately 30-foot by 35-foot by 16-foot high metal building or similar structure. The building will house two 262-kW Pelton turbines, a 480 volt, 3 phase synchronous generator, and switchgear for each turbine.

Tailrace

A tailrace structure and culvert or constructed stream bed will convey the project flows from the powerhouse to the nearby pond, known in Old Harbor as Swimming Pond. The tailrace will continue on from Swimming Pond, conveying project flows for a total of approximately 2,300 feet.

Access Road and Trail

An approximately 11,500-foot-long by 10-foot-wide intake access trail will be constructed between the intake and the powerhouse and an approximately 5,720-foot-long by 24-foot-wide access road will extend from powerhouse to the existing community drinking water tank access road. As requested by the U.S. Fish and Wildlife Service, to prevent traffic in the Kodiak National Wildlife Refuge, the intake access trail will be closed to non-project traffic. The powerhouse access road will be open to public vehicles. An approximately 6,550-foot-long, 12.47kV three-phase overhead power line will extend from the powerhouse to the existing power distribution system in Old Harbor.

Transmission Line

A 6,500-foot-long, 12.47-kV, 3-phase overhead power line will be installed from the powerhouse to the existing power distribution system in Old Harbor.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | January 2014.
Filing of recommendations, preliminary terms and conditions, and fishway prescriptions | March 2014.
Commission issues Environmental Assessment (EA) | July 2014.
Comments on EA | August 2014.
Modified terms and conditions | October 2014.

o. Final amendments to the application must be filed with the Commission no later than 30 days from the issuance date of the notice of ready for environmental analysis.

Dated: November 14, 2013.
Kimberly D. Bose,
Secretary.

[FR Doc. 2013-27959 Filed 11-20-13; 8:45 am]

BILLING CODE 6717-01-P